DEPARTMENT OF LABOR

Mine Safety and Health Administration

Proposed Information Collection; Application for a Permit To Fire More than 20 Boreholes and/or for the use of Nonpermissible Blasting Units, Explosives, and Shot-Firing Units; Posting Notices of Misfires

AGENCY: Mine Safety and Health Administration, Labor.

ACTION: Request for public comments.

SUMMARY: The Department of Labor, as part of its continuing effort to reduce paperwork and respondent burden, conducts a pre-clearance consultation program to provide the general public and Federal agencies with an opportunity to comment on proposed and continuing collections of information in accordance with the Paperwork Reduction Act of 1995 [44 U.S.C. 3506(c)(2)(A)] (PRA). This program helps to assure that requested data can be provided in the desired format, reporting burden (time and financial resources) is minimized, collection instruments are clearly understood, and the impact of collection requirements on respondents can be properly assessed.

Currently, the Mine Safety and Health Administration (MSHA) is soliciting comments concerning the proposed information collection for developing and updating Application for a Permit to Fire More than 20 Boreholes and/or for the use of Nonpermissible Blasting Units, Explosives, and Shot-firing Units; Posting Notices of Misfires.

DATES: All comments must be postmarked or received by midnight Eastern Standard Time on September 3, 2013.

ADDRESSES: Comments concerning the information collection requirements of this notice may be sent by any of the methods listed below.

• Federal E-Rulemaking Portal: http://www.regulations.gov. Follow the on-line instructions for submitting comments for docket number [MSHA-2013-0018].

• Regular Mail or Hand Delivery: MSHA, Office of Standards, Regulations, and Variances, 1100 Wilson Boulevard, Room 2350, Arlington, VA 22209-3939.

FOR FURTHER INFORMATION CONTACT: Sheila McConnell, Deputy Director, Office of Standards, Regulations, and Variances, MSHA, at McConnell.Sheila.A@dol.gov (email); 202-693-9440 (voice); or 202-693-9441 (facsimile).

SUPPLEMENTARY INFORMATION:

I. Background

Under Section 313 of the Federal Mine Safety and Health Act of 1977 (Mine Act), 30 U.S.C. 873, any explosives used in underground coal mines must be permissible with certain exceptions. The Mine Act also provides that, under safeguards prescribed by the Secretary of Labor, a mine operator may permit the firing of more than 20 shots and the use of nonpermissible explosives in sinking shafts and slopes from the surface in rock. Title 30 CFR 75.1321 outlines the procedures by which a permit may be issued for the firing of more than 20 boreholes and/or the use of nonpermissible blasting units in underground coal mines. In those instances in which there is a misfire of explosives, § 75.1327 requires that a qualified person post each accessible entrance to the affected area with a warning to prohibit entry. Section 77.1909-1 outlines the procedures by which a coal mine operator may apply for a permit to use nonpermissible explosives and/or shot-firing units in the blasting of rock while sinking shafts or slopes for underground coal mines.

II. Desired Focus of Comments

The Mine Safety and Health Administration (MSHA) is soliciting comments concerning the proposed extension of the information collection related to Application for a Permit to Fire More than 20 Boreholes and/or for the use of Nonpermissible Blasting Units, Explosives, and Shot-firing Units; Posting Notices of Misfires. MSHA is particularly interested in comments that:

• Evaluate whether the collection of information is necessary for the proper performance of the functions of the agency, including whether the information has practical utility;

• Evaluate the accuracy of the MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

OMB clearance requests are available on MSHA's Web site at http://www.msha.gov under “Federal Register Documents” on the right side of the screen by selecting “New and Existing Information Collections and Supporting Statements”. The document will be available on MSHA's Web site for 60 days after the publication date of this notice, and on http://www.regulations.gov. Because comments will not be edited to remove any identifying or contact information, MSHA cautions the commenter against including any information in the submission that should not be publicly disclosed.

The public may also examine publicly available documents at MSHA, Office of Standards, Regulations, and Variances, 1100 Wilson Boulevard, Room 2350, Arlington VA 22209-3939.

Questions about the information collection requirements may be directed to the person listed in the FOR FURTHER INFORMATION CONTACT section of this notice.

III. Current Actions

The information obtained will be used to issue permits to mine operators or slope contractors for the use of nonpermissible explosives and/or shot-firing units. MSHA has used 2012 data for the number of respondents and responses, as well as the total burden hours and burden costs supporting this information collection request.

Type of Review: Extension.

Agency: Mine Safety and Health Administration.

Title: Application for a Permit to Fire More than 20 Boreholes and/or for the use of Nonpermissible Blasting Units, Explosives, and Shot-firing Units; Posting Notices of Misfires.

OMB Number: 1219-0025.

Affected Public: Business or other for-profit.

Total Number of Respondents: 67.

Frequency: Various.

Total Number of Responses: 88.

Total Burden Hours: 74 hours.

Total Annual Respondent or Recordkeeper Cost Burden: $348.

Comments submitted in response to this notice will be summarized and included in the request for Office of Management and Budget approval of the information collection request; they will also become a matter of public record.

Dated: June 28, 2013.
George F. Triebsch,
Certifying Officer.

[FR Doc. 2013-16051 Filed 7-2-13; 8:45 am]

BILLING CODE 4510-43-P